DEPARTMENT OF HEALTH AND HUMAN SERVICES

Centers for Disease Control and Prevention

National Institute for Occupational Safety and Health; Advisory Board on Radiation and Worker Health

In accordance with section 10(a)(2) of the Federal Advisory Committee Act (Pub. L. 92-463), and pursuant to the requirements of 42 CFR 83.15(a), the Centers for Disease Control and Prevention (CDC) has announced the following committee meeting where petitions for designation of classes of employees as members of the Special Exposure Cohort (SEC) will be considered for the Mallinckrodt Destrehan Street Plant and the Iowa Army Ammunition Plant.

Name: Advisory Board on Radiation and Worker Health (ABRWH), National Institute for Occupational Safety and Health (NIOSH).

Committee Meeting Times and Dates: 1 p.m.-5 p.m., February 7, 2005, 8 a.m.-4:45 p.m., February 8, 2005, 7 p.m.-8:30 p.m., February 8, 2005, 8:30 a.m.-4:30 p.m., February 9, 2005.

Place: Adam's Mark St. Louis, 4th and Chestnut Street, St. Louis, Missouri 63102, telephone (314) 241-7400, fax (314) 241-9839.

Status: Open to the public, limited only by the space available. The meeting space accommodates approximately 500 people.

Matters to be Discussed: This notice provides further information regarding two items on the agenda for this meeting. First, NIOSH is seeking the ABRWH's guidance on dealing with dose reconstruction data when questions are raised about the authenticity and reliability of the data. Second, NIOSH is seeking guidance from the ABRWH on the findings of the SEC Petition Evaluation Reports—Mallinckrodt Chemical Company, Destrehan Street Plant, the entire uranium division, 1942-1957, St. Louis, Missouri, and Petitioners Comments on Report; and the NIOSH SEC Petition Evaluation Report—Iowa Army Ammunition Plant (IAAP), Line 1 and associated areas, 1947-1974, Burlington, Iowa, and Petitioners Comments on Report. The NIOSH SEC Petition Evaluation Report for Mallinckrodt 1942-1945 and for Mallinckrodt 1946-1957 find that radiation doses cannot be estimated with sufficient accuracy and that there is a reasonable likelihood that such radiation dose may have endangered the health for Mallinckrodt Chemical Company, Destrehan Street Plant uranium division employees from 1942-1948. The NIOSH SEC Petition Evaluation Report for Mallinckrodt 1946-1957 finds that dose reconstructions may or may not be feasible from 1949-1957. NIOSH also seeks the guidance of the ABRWH on the NIOSH SEC Petition Evaluation Report—Iowa Army Ammunition Plant that finds that records and/or information necessary to publicly evaluate part of the IAAP SEC Petition are not, and will not be available on a transparent and timely basis.

In the event an individual cannot attend, written comments may be submitted. Any written comments received will be provided at the meeting and should be submitted to the contact person below well in advance of the meeting.

Contact Person for More Information: Lewis Wade, Senior Science Advisor to the Director, NIOSH, CDC, 200 Independence Avenue, SW., Room 717H, Washington, DC 20201, telephone (202) 401-6997; fax (202) 205-2207.

Dated: February 1, 2005.
John Howard,
Director, National Institute for Occupational Safety and Health, Centers for Disease Control and Prevention (CDC).

[FR Doc. 05-2201 Filed 2-1-05; 2:22 pm]

BILLING CODE 4163-19-P